DEPARTMENT OF HELATH AND HUMAN SERVICES

Administration for Community Living

Intent To Award a Single-Source Supplement to the National Aging Network

AGENCY: Administration for Community Living, HHS.

ACTION: Notice.

SUMMARY: The Administration for Community Living is announcing its intent to Award a Single-Source Supplement to provide the National Aging Network with timely, relevant, high quality opportunities to further enhance their knowledge and skills related to nutrition services.

FOR FURTHER INFORMATION CONTACT: For further information or comments regarding this program supplement, contact Keri Lipperini, U.S. Department of Health and Human Services, Administration for Community Living, Administration on Aging, Office of Nutrition and Health Promotion Programs, 202-795-7422, email keri.lipperini@acl.hhs.gov.

SUPPLEMENTARY INFORMATION: The Administration for Community Living (ACL) announces the intent to award a single-source supplement to the current cooperative agreement held by Meals on Wheels America for the project Enhancing the Knowledge and Skills of the Aging Network. The purpose of this supplement is to: (1) Support the development and dissemination of resources for experienced and inexperienced Aging Network Nutrition Program providers; and (2) enhance peer-learning opportunities for State Units on Aging (SUAs), Area Agencies on Aging (AAAs), and Nutrition Program providers.

The administrative supplement for FY 2019 will be in the amount of $257,401, bringing the total award for FY 2019 to $482,390.

The additional funding will not be used to begin new projects, but it will be used to enhance existing efforts. The grantee will continue to provide appropriate, quality nutrition-related resources, address new opportunities to embed nutrition services within the home and community-based service systems, and engage successfully in emerging models of integrated health care.

Program Name: Enhancing the Knowledge and Skills of the Aging Network.

Recipient: Meals on Wheels America.

Period of Performance: The supplement award will be issued for the second year of a three year project period of Sept 1, 2017 to August 31, 2020.

Total Award Amount: $482,390 in FY 2019.

Award Type: Cooperative Agreement Supplement.

Statutory Authority: The Older Americans Act (OAA) of 1965, as amended, Public Law 114-144.

Basis for Award

Meals on Wheels America (MOWA) is currently funded to carry out the objectives of this project through its current project entitled, National Resource Center on Nutrition and Aging for the period of September 1, 2017 through August 31, 2020. Since the project's implementation, the grantee has made satisfactory progress toward its approved work plan. The supplement will enable the grantee to carry their work even further, enhancing the support they provide to the Aging Network Nutrition Program Providers. The additional funding will not be used to begin new projects or activities, but rather to continue to enhance efforts specific to tribal populations and congregate meal settings.

MOWA is uniquely positioned to complete the work called for under this project. They have an already established infrastructure and are a known and trusted organization in the Aging Network. They have an established presence within much of the Aging Network. Under this current award period, they are providing educational opportunities for the Aging Network Nutrition Program Providers, including webinars and live trainings. They have a comprehensive, interactive web-based repository (www.nutritionandaging.org) with tools and resources, including—but not limited to—issues briefs, policy and practice models, and toolkits. They have also presented to the Aging Network locally and on a national level. They have reached thousands of providers using their: (1) Comprehensive database of SUAs, AAAs, and other Nutrition Program Providers; and (2) Leadership Academy, which provides expert consultation around nutrition program delivery and the use of technology to enhance services. In addition, they have developed partnerships with organizations, universities, and other entities to provide education and support for the Aging Network.

Establishing an entirely new grant project at this time would be potentially disruptive to the current work already well under way. More importantly, it could cause confusion among the Aging Network Nutrition Program Providers, which could have a negative effect on training and support opportunities. If this supplement were not provided, the project would be unable to address the significant unmet educational needs of the Aging Network Nutrition Program Providers.

Dated: May 9, 2019.
Mary Lazare,
Principal Deputy Administrator .

[FR Doc. 2019-10029 Filed 5-14-19; 8:45 am]

BILLING CODE 4154-01-P